DEPARTMENT OF LABOR

Mine Safety and Health Administration

Brookwood-Sago Mine Safety Grants

AGENCY: Mine Safety and Health Administration, Labor.

ACTION: Funding Opportunity Announcement (FOA); extension of closing date for applications.

Announcement Type: New

Funding Opportunity Number: FOA BS-2019-1

Catalog of Federal Domestic Assistance (CFDA) Number: 17.603

SUMMARY: On March 25, 2019, MSHA published a Funding Opportunity Announcement (FOA) that provides grant funds for education and training programs to help identify, avoid, and prevent unsafe working conditions in and around mines. The notice announced the closing date for applications was 60 days after the FOA was published on March 25, 2019. MSHA is extending the closing date to June 28, 2019.

DATES: The closing date for applications will be June 28, 2019, (no later than 11:59 p.m. EDT). MSHA will award grants on or before September 30, 2019.

ADDRESSES: Grant applications for this competition must be submitted electronically through the Grants.gov site at www.grants.gov. If applying online poses a hardship to any applicant, the MSHA Directorate of Educational Policy and Development will provide.

FOR FURTHER INFORMATION CONTACT: Any questions regarding this FOA BS-2019-1 should be directed to Janice Oates at oates.janice@dol.gov or 202-693-9573 (this is not a toll-free number) or Cindy Hennigan at hennigan.cindy@dol.gov or 202-693-9570 (this is not a toll-free number).

SUPPLEMENTARY INFORMATION: On March 25, 2019, MSHA published a notice announcing that the Agency is providing up to $400,000 for the 2019 Brookwood-Sago grant program (84 FR 11127). The focus of these grants will be training programs and training materials on powered haulage safety (i.e., reducing vehicle-on-vehicle collisions, increasing seat belt use, and improving belt conveyor safety), examinations of working places at metal and nonmetal mines, mine emergency prevention and preparedness, or other programs to prevent unsafe conditions in and around mines. The FOA published on March 25, 2019, provides the background information and the requirements for the projects funded under the solicitation.

David G. Zatezalo,
Assistant Secretary of Labor for Mine Safety and Health.

[FR Doc. 2019-11036 Filed 5-24-19; 8:45 am]

BILLING CODE 4510-43-P